DEPARTMENT OF THE INTERIOR

Bureau of Land Management

[NMNM 032449, NMNM 048730, NMNM 52411, and NMNM 52412]

Public Land Order No. 7706; Modification of Public Land Order Nos. 2131 and 2228 and Secretarial Orders dated July 17, 1947 and August 12, 1948; New Mexico

AGENCY: Bureau of Land Management, Interior.

ACTION: Public Land Order.

SUMMARY: This order modifies and establishes a 20-year term for two Public Land Orders and two Secretarial Orders, which withdrew public lands and reserved them for use of the Federal Aviation Administration in the maintenance of air navigation facilities. The lands, which aggregate approximately 193 acres, are still needed for the purpose for which they were withdrawn. The lands will remain withdrawn from surface entry and mining but not from mineral and geothermal leasing or mineral material sales.

DATES: Effective Date: April 22, 2008.

FOR FURTHER INFORMATION CONTACT: Gilda Fitzpatrick, Bureau of Land Management, New Mexico State Office, 1474 Rodeo Road, Santa Fe, New Mexico 87502, 505-438-7597.

SUPPLEMENTARY INFORMATION: The Federal Aviation Administration has determined that the lands are still needed for air navigation site purposes. A copy of the original withdrawal orders containing legal descriptions of the lands involved is available from the Bureau of Land Management, New Mexico State Office at the address above.

Order

By virtue of the authority vested in the Secretary of the Interior by section 204 of the Federal Land Policy and Management Act of 1976, 43 U.S.C. 1714 (2000), it is ordered as follows:

Public Land Order Nos. 2131 (25 FR 5765, June 23, 1960) and 2228 (25 FR 13693, December 24, 1960) and the Secretarial Orders dated July 17, 1947 and August 12, 1948, which withdrew public lands from surface entry and mining, and reserved them for use of the Federal Aviation Administration in the maintenance of air navigation facilities, are hereby modified to expire 20 years from the effective date of this order unless, as a result of a review conducted before the expiration date pursuant to section 204(f) of the Federal Land Policy and Management Act of 1976, 43 U.S.C. 1714(f) (2000), the Secretary determines that the withdrawals shall be extended.

Dated: April 8, 2008.
C. Stephen Allred,
Assistant Secretary—Land and Minerals Management.

[FR Doc. E8-8646 Filed 4-21-08; 8:45 am]

BILLING CODE 4910-13-P